NATIONAL CREDIT UNION ADMINISTRATION

Sunshine Act; Notice of Agency Meeting

TIME AND DATE: 10 a.m., Thursday, May 21, 2009.

PLACE: Board Room, 7th Floor, Room 7047, 1775 Duke Street, Alexandria, VA 22314-3428.

STATUS: Open.

MATTERS TO BE CONSIDERED:

1. Final Rule—Part 717, Subpart E, Sections 717.40-717.43, Appendix E of NCUA's Rules and Regulations, Fair Credit Reporting.

2. Advance Notice of Proposed Rulemaking—Part 717, Subpart E, Sections 717.40-717.43, Appendix E of NCUA's Rules and Regulations, Fair Credit Reporting.

3. Waiver of Fidelity Bond Coverage Increase, Section 713.5 of NCUA's Rules and Regulations.

4. Insurance Fund Report.

RECESS: 11 a.m.

TIME AND DATE: 11:15 a.m., Thursday, May 21, 2009.

PLACE: Board Room, 7th Floor, Room 7047, 1775 Duke Street, Alexandria, VA 22314-3428.

STATUS: Closed.

MATTERS TO BE CONSIDERED:

1. Creditor Claim Appeal. Closed pursuant to Exemption (6).

2. Consideration of Supervisory Activities (4). Closed pursuant to some or all of the following: Exemptions (8) and (9)(A)(ii) and 9(B).

3. Personnel (3). Closed pursuant to some or all of the following: Exemptions (2) and (6).

FOR FURTHER INFORMATION CONTACT: Mary Rupp, Secretary of the Board, Telephone: 703-518-6304.

Mary Rupp,
Board Secretary.

[FR Doc. E9-11643 Filed 5-14-09; 4:15 pm]

BILLING CODE 7535-01-P